DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee Act (Pub. L. 92-463, 86 Stat. 770) requires that public notice of these meetings be announced in the Federal Register.

DATES: Tuesday, October 8, 2013, 9:00 a.m.-5:00 p.m.; Wednesday, October 9, 2013, 9:00 a.m.-12:00 p.m.

ADDRESSES: American Geophysical Union, (AGU), 2000 Florida Avenue NW., Washington, DC 20009-1277.

FOR FURTHER INFORMATION CONTACT: Melea Baker, Office of Advanced Scientific Computing Research; SC-21/Germantown Building; U.S. Department of Energy; 1000 Independence Avenue SW.; Washington, DC 20585-1290; Telephone (301) 903-7486.

SUPPLEMENTARY INFORMATION: Purpose of the Meeting: The purpose of this meeting is to provide advice and recommendations to the Department of Energy on scientific priorities within the field of advanced scientific computing research.

Tentative Agenda Topics

• View from Washington

• View from Germantown

• Update on Exascale

• Update from Exascale technical approaches subcommittee

• Facilities update

• Report from Applied Math Committee of Visitors

• Exascale technical talks

• Public Comment (10-minute rule)

Public Participation: The meeting is open to the public. A Webcast of this meeting will be available. Please check the Web site below for updates and information on how to view the meeting. If you would like to file a written statement with the Committee, you may do so either before or after the meeting. If you would like to make oral statements regarding any of the items on the agenda, you should contact Melea Baker by telephone at: (301) 903-7486 or email: (Melea.Baker@science.doe.gov). You must make your request for an oral statement at least five business days prior to the meeting. Reasonable provision will be made to include the scheduled oral statements on the agenda. The Chairperson of the Committee will conduct the meeting to facilitate the orderly conduct of business. Public comment will follow the 10-minute rule.

Minutes: The minutes of this meeting will be available for viewing on the U.S. Department of Energy's Office of Advanced Scientific Computing Web site at http://science.energy.gov/ascr.

Issued at Washington, DC, on September 10, 2013.
LaTanya R. Butler,
Deputy Committee Management Officer.

[FR Doc. 2013-22457 Filed 9-13-13; 8:45 am]

BILLING CODE 6450-01-P